ENVIRONMENTAL PROTECTION AGENCY

[ER-FRL-6688-1]

Environmental Impact Statements and Regulations; Availability of EPA Comments

Availability of EPA comments prepared pursuant to the Environmental Review Process (ERP), under section 309 of the Clean Air Act and Section 102(2)(c) of the National Environmental Policy Act as amended.

Requests for copies of EPA comments can be directed to the Office of Federal Activities at 202-564-7167. An explanation of the ratings assigned to draft environmental impact statements (EISs) was published in F.R. dated April 6, 2007 (72 FR 17156).

Draft EISs

EIS No. 20070147, ERP No. D-AFS-J65479-MT, Trapper Bunk House Land Stewardship Project, Reduce Risk from Stand-Replacing and Uncontrollable Fires, Improve Resiliency and Provide Forest Products, Fuel Reduction Research and Watershed Improvement, Bitterroot National Forest, Darby Ranger District, Ravalli County, MT.

Summary: EPA supports project objectives to improve watersheds, reduce fire risk, improve vegetative resiliency, conduct fuel reduction research, and provide timber. However, EPA expressed environmental concerns about potential impacts to water quality. Rating EC2.

EIS No. 20070150, ERP No. D-FRC-F03010-WI, Gurardian Expansion and Extension Project, Construction and Operation Natural Gas Pipeline Facilities, Jefferson, Dodge, Fond du Lac, Calument, Brown, Walworth, Outagamie Counties, WI.

Summary: EPA expressed environmental concern about water quality and wetland impacts and requested additional analysis and mitigation for these impacts. Rating EC2.

EIS No. 20070152, ERP No. D-GSA-F60010-OH, Cincinnati National Institute for Occupational Safety and Health (NIOSH) Laboratories Consolidation, Site Selection, Hamilton and Clermont Counties, OH.

Summary: EPA expressed environmental concerns about air quality impacts, and water quality/wetland impacts, and requested additional information on mitigation. Rating EC2.

Final EISs

EIS No. 20070142, ERP No. F-BLM-J01081-WY, Maysdorf Coal Lease by Application (LBA) Tract, (Federal Coal Application WYW154432), Implementation, Campbell Counties, WY.

Summary: No formal comment letter was sent to the preparing agency.

EIS No. 20070163, ERP No. F-BLM-L65518-ID, Eastside Township Fuels and Vegetation Project, Address the Forest Health, Fuels, Safety, and Watershed Issues, Elk City, Idaho County, ID.

Summary: EPA continues to have environmental concerns about the project due to impacts of short term sediment loading listed streams.

EIS No. 20070166, ERP No. F-AFS-L65498-ID, Newsome Creek Watershed Rehabilitation, Stream Restoration and Improvement and Decommissioning of Roads, Red River Ranger District, Nez Perce National Forest, Idaho County, ID.

Summary: EPA continues to have environmental concerns about mercury contamination impacts from past mining practices which could pose a threat to human health, fish and aquatic biota. The Record of Decision should include data on levels of mercury contamination in the project area and mitigation measures.

EIS No. 20070170, ERP No. F-NPS-E65081-FL, Castillo de San Marcos National Monument, General Management Plan, Implementation, City of St. Augustine, St. Johns County, FL.

Summary: EPA does not object to the action as proposed. EIS No. 20070173, ERP No. F-COE-E36184-FL, Central and Southern Florida Project, New Authorization for Broward County Water Preserve Areas, South Florida Water Management District (SFWMD), Comprehensive Everglades Restoration Plan, (CERP), Broward County, FL.

Summary: EPA's previous concerns have been resolved; therefore, EPA does not object to the proposed action.

EIS No. 20070178, ERP No. F-AFS-J65465-00, Kootenai National Forest Invasive Plant Management, Proposes to Manage Noxious Weed and Invasive Plant Species, Lincoln Sanders, Flathead Counties, MT and Bonner and Boundary Counties, ID.

Summary: EPA supports the integrated weed management program; however, we continue to suggest the need for adequate mitigation measures during herbicide applications which could potentially adversely impact water quality and aquatic resources.

EIS No. 20070198, ERP No. F-HUD-L85028-WA, Westpark Redevelopment Master Plan, Redevelop of 82-acre Site to create a Mixed-Use, Mixed-Income Pedestrian-Oriented Urban Community, Funding and US Army COE Section 10 Permit, City of Bremerton, Kitsap County, WA.

Summary: No formal comment letter was sent to the preparing agency.

Dated: 06/11/2007.
Robert W. Hargrove,
Director, NEPA Compliance Division, Office of Federal Activities.

[FR Doc. E7-11575 Filed 6-14-07; 8:45 am]

BILLING CODE 6560-50-P